ENVIRONMENTAL PROTECTION AGENCY

[FRL-6912-1]

Proposed Settlement Under Section 122(h) of the Comprehensive Environmental Response, Compensation and Liability Act, as Amended, 42 U.S.C. 9622(h), Tokeland Cow Dip Pit CERCLA Site, Pacific County, Washington

AGENCY: Environmental Protection Agency (EPA).

ACTION: Notice of proposed settlement and request for public comment.

SUMMARY: In accordance with section 122(i) of the Comprehensive Environmental Response, Compensation and Liability Act, as amended by the Superfund Amendment and Reauthorization Act (“CERCLA”), notice is hereby given of a proposed settlement to resolve a claim against Estate of Virginia M. Nelson. The proposed settlement concerns the federal government's past response costs at the Tokeland Cow Dip Pit CERCLA Site, Pacific County, Washington. The settlement requires the settling party, the Estate of Virginia M. Nelson, to pay $57,111.55 to the Hazardous Substance Superfund. For thirty (30) days following the date of publication of this notice, the Agency will receive written comments relating to the settlement. The Agency's response to any comments received will be available for public inspection at the U.S. Environmental Protection Agency, Region 10, office at 1200 Sixth Avenue, Seattle, Washington 98101. A copy of the proposed settlement may be obtained from Mary Shillcutt, Regional Hearing Clerk, EPA, Region 10, 1200 Sixth Avenue, Seattle, Washington 98101, telephone number (206) 553-2429. Comments should reference the “Tokeland Cow Dip Pit CERCLA Site” and EPA Docket No. CERCLA-10-97-0043 and should be addressed to Ms. Shillcutt at the above address.

FOR FURTHER INFORMATION CONTACT: Jennifer Byrne, Assistant Regional Counsel, EPA Region 10, Office of Regional Counsel, 1200 Sixth Avenue, Seattle, Washington 98101, telephone number (206) 553-0050.

Dated: November 21, 2000.
Charles E. Findley,
Acting Regional Administrator, Region 10.

[FR Doc. 00-30909 Filed 12-5-00; 8:45 am]

BILLING CODE 6560-50-U